DEPARTMENT OF THE INTERIOR

Fish and Wildlife Service

[FWS-R2-ES-2020-N133; FXES11130200000-201-FF02ENEH00]

Endangered and Threatened Wildlife and Plants; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: We must receive your written comments on or before November 4, 2020.

ADDRESSES: Document availability: Request documents by phone or email: Susan Jacobsen, 505-248-6641, susan_jacobsen@fws.gov.

Comment submission: Submit comments by email to fw2_te_permits@fws.gov. Please specify the permit you are interested in by number (e.g., Permit No. TE-123456).

FOR FURTHER INFORMATION CONTACT: Susan Jacobsen, Chief, Classification and Restoration Division, 505-248-6641. Individuals who are hearing or speech impaired may call the Federal Relay Service at 1-800-877-8339 for TTY assistance.

SUPPLEMENTARY INFORMATION: We, the U.S. Fish and Wildlife Service, invite the public to comment on applications for permits under section 10(a)(1)(A) of the Endangered Species Act of 1973, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of endangered species in the wild. Section 10(c) of the ESA requires that we invite public comment before issuing these permits. Accordingly, we invite local, State, Tribal, and Federal agencies and the public to submit written data, views, or arguments with respect to these applications. The comments and recommendations that will be most useful and likely to influence agency decisions are those supported by quantitative information or studies.

Application No. | Applicant | Species | Location | Activity | Type of take | Permit action
TE191195 | Baer Engineering; Austin, Texas | Golden-cheeked warbler (Setophaga chrysoparia), Barton Springs salamander (Eurycea sosorum), Austin blind salamander (Eurycea waterlooensis) | Texas | Presence/absence surveys | Capture, harm, harass | Renewal.
TE028605 | Hucks, Katrina; Albuquerque, New Mexico | Southwestern willow flycatcher (Empidonax traillii extimus) | Arizona, California, Colorado, Nevada, New Mexico, Utah, Texas | Presence/absence survey | Harm, harass | Renewal.
TE83109D | Byrd, Chase; Ada, Oklahoma | American burying beetle (Nicrophorus americanus) | Oklahoma | Presence/absence surveys | Harm, harass | New.
TE80520D | Bryant, Jennifer; Oklahoma City, Oklahoma | American burying beetle (Nicrophorus americanus) | Oklahoma | Presence/absence surveys | Harm, harass | New.
TE030115 | Bureau of Land Management—Safford District; Safford, AZ | Gila topminnow (Poeciliopsis occidentalis), desert pupfish (Cyprinodon macularius), Gila chub (Gila intermedia), southwestern willow flycatcher (Empidonax traillii extimus), Yuma clapper rail (Rallus longirostris yumanensis), spikedace (Mega fulgida), loach minnow (Tiaroga cobitis), razorback sucker (Xyrauchen texanus) | Arizona | Presence/absence surveys, collection | Harass, harm, capture, injure, kill | Renewal.
TE82008D | McDorman, John; Tulsa, Oklahoma | American burying beetle (Nicrophorus americanus) | Kansas, Nebraska, Oklahoma | Presence/absence surveys | Harm, harass | New.
TE76960D | Burns, Jodie; Bentonville, Arkansas | American burying beetle (Nicrophorus americanus) | Arkansas, Kansas, Missouri, Nebraska, Oklahoma, South Dakota, Texas | Presence/absence surveys | Harm, harass | New.
TE086559 | Jones, Ricky Lee; Broken Bow, Oklahoma | American burying beetle (Nicrophorus americanus) | Oklahoma | Presence/absence surveys | Harm, harass | Renewal.
TE79002D | Texas Military Department; Austin, Texas | American burying beetle (Nicrophorus americanus) | Texas | Presence/absence surveys | Harass, harm | New.
TE83399D | Johnson, James; Canyon, Texas | Pecos gambusia (Gambusia nobilis) | New Mexico, Texas | Presence/absence surveys | Harm, harass | New.
TE81992D | Bohannon, Austin; Austin, Texas | Houston toad (Bufo houstonensis) | Texas | Presence/absence surveys | Harm, harass | New.
TE83056D | Johnny Morris' Wonders of Wildlife Museum and Aquarium; Springfield, Missouri | Masked bobwhite quail (Colinus virginianus ridgwayi) | Arizona | Captive breeding, propagation | Harm, harass | New.
TE52816B | Davis, David; Barstow, California | Golden-cheeked warbler (Setophaga chrysoparia), southwestern willow flycatcher (Empidonax traillii extimus), whooping crane (Grus americana), red-cockaded woodpecker (Picoides borealis), Attwater's prairie-chicken (Tympanuchus cupido attwateri), jaguarundi (Herpailurus yagouaroundi), ocelot (Leopardus pardalis), least tern (Sternula antillarum athalossos), northern aplomado falcon (Falco femoralis septentrionalis) | Arizona, California, New Mexico, Oklahoma, Texas | Presence/absence surveys | Harass, harm | Renewal.
TE022190 | Arizona Sonora Desert Museum; Tucson, Arizona | Mount Graham red squirrel (Tamiasciurus hudsonicus grahamensis), masked bobwhite quail (Colinus virginianus ridgwayi), Sonora tiger salamander (Ambystoma tigrinum stebbinsi) | Arizona | Propagation | Harass, harm | Renewal.
TE828640 | Harris Environmental Group; Tucson, Arizona | Sonora tiger salamander (Ambystoma tigrinum stebbinsi), northern aplomado falcon (Falco femoralis septentrionalis), southwestern willow flycatcher (Empidonax traillii extimus), Yuma clapper rail (Rallus longirostris yumanensis) | Arizona, New Mexico | Presence/absence surveys | Harass, harm | Renewal.
TE79006D | Lazo, Walker G.; San Antonio, Texas | Golden-cheeked warbler (Setophaga chrysoparia), Helotes mold beetle (Batrisodes venyivi), Robber Baron Cave meshweaver (Cicurina baronia), Government Canyon Bat Cave meshweaver (Cicurina vespera), Ground beetle (Rhadine exilis), Ground beetle (Rhadine infernalis), Madla Cave meshweaver (Cicurina madla), Cokendolpher cave harvestman (Texella cokendolpheri), Government Canyon bat cave spider (Neoleptoneta microps) | Texas | Presence/absence surveys | Harm, harass | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. We will not consider anonymous comments. Moreover, all submissions from organizations or businesses, and from individuals identifying themselves as representatives or officials of organizations or businesses, will be made available for public disclosure in their entirety.

Authority

We publish this notice under section 10(c) of the Endangered Species Act of 1973, as amended (16 U.S.C. 1531 et seq.).

Amy L. Lueders,
Regional Director, Southwest Region, U.S. Fish and Wildlife Service.

[FR Doc. 2020-21976 Filed 10-2-20; 8:45 am]

BILLING CODE 4333-15-P